DEPARTMENT OF HOMELAND SECURITY

Coast Guard

33 CFR Part 117

[Docket No. USCG-2013-1041]

Drawbridge Operation Regulation; Vermillion River, Abbeville, LA

AGENCY: Coast Guard, DHS.

ACTION: Notice of deviation from drawbridge regulation.

SUMMARY: The Coast Guard has issued a temporary deviation from the regulation that governs the State Road (SR) 14 Bridge across the Vermilion River, mile 25.4, at Abbeville, Vermilion Parish, Louisiana. The deviation is necessary to affect replacement of the wire rope cables. This is part of the normal maintenance that is required for safe operation of the bridge. This deviation allows the bridge to remain closed to navigation for 14 consecutive days.

DATES: This deviation is effective from 6 a.m. on January 20, 2014 to 7 p.m. on February 2, 2014.

ADDRESSES: The docket for this deviation, [USCG-2013-1041] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email James Wetherington, Bridge Administration Branch, Coast Guard, telephone 504-671-2128, email james.r.wetherington@uscg.mil. If you have questions on viewing the docket, call Cheryl Collins, Program Manager, Docket Operations, telephone 202-366-9826.

SUPPLEMENTARY INFORMATION: The Louisiana Department of Transportation and Development requested a temporary deviation from the normal operation of the SR 14 Vermilion River, mile 25.4, at Abbeville, Vermilion Parish, Louisiana in order to remove and replace the wire rope cables required to operate the bridge. This maintenance is essential for the continued safe operation of the vertical lift bridge. This temporary deviation allows the bridge to remain closed from 6 a.m. on January 20, 2014 through 7 p.m. on February 2, 2014.

The bridge has a vertical clearance of 6 feet above mean gulf (MGL), elevation 0.0 feet (NGVD 29), in the closed-to-navigation position and 61 feet in the open-to-navigation position.

In accordance with to 33 CFR 117.509(b)(1), the draw of the SR 14 Bridge, mile 25.4, shall open on signal; except that, from 6 p.m. to 10 a.m. the draw shall open on signal if at least four hour notice is given. The draw will be unable to open for a vessel in distress.

Navigation on the waterway consists mainly of commercial tug and barge traffic. The bridge logs for all of January and February show 26 and 50 openings respectively. The time period for the deviation is the slow time for the commercial entities that would be most affected. As a result of coordination between the State, Coast Guard and the waterway users, it has been determined that this closure will not have a significant effect on these vessels.

Vessels able to pass through the bridge in the closed positions may do so at anytime. The bridge will not be able to open for emergencies. There are no alternate routes for vessels that cannot pass through the bridge in the closed-to-navigation position. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: December 19, 2013.
David M. Frank,
Bridge Administrator.

[FR Doc. 2014-00279 Filed 1-10-14; 8:45 am]

BILLING CODE 9110-04-P